DEPARTMENT OF ENERGY

Federal Energy Regulatory Commission

[Docket No. RP96-389-088]

Columbia Gulf Transmission Company; Notice of Compliance Filing

May 7, 2004.

Take notice that on May 4, 2004, Columbia Gulf Transmission Company (Columbia Gulf) tendered for filing a third amendment to service agreement between Columbia Gulf and Stone Energy Company.

Columbia Gulf states that it is making this filing to comply with the Commission's April 20, 2004 Order in RP96-389-083 (107 FERC ¶ 61,075, April 20, 2004 Order). In the April 20, 2004 Order, the Commission accepted revised tariff sheets and the non-conforming agreement between Stone Energy and Columbia Gulf (Stone Agreement) subject to conditions. Columbia Gulf states that the Commission directed Columbia Gulf to either remove the unilateral aspect of Stone Energy's right to adjust its MDQ from the Stone Agreement or, alternately, modify its Tariff and pro forma service agreement to provide the unilateral right to reduce contract demand to all similarly situated shippers. Columbia Gulf asserts that in compliance with the Commission's April 20, 2004 Order, Columbia Gulf has amended the Stone Agreement.

Columbia Gulf states that copies have been mailed to all firm customers, interruptible customers, and affected state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1154 Filed 5-12-04; 8:45 am]

BILLING CODE 6717-01-P